DEPARTMENT OF ENERGY

Federal Energy Regulatory Commission

Combined Notice of Filings #2

Take notice that the Commission received the following exempt wholesale generator filings:

Docket Numbers: EG20-200-000.

Applicants: Duke Energy Corporation, Maryneal Windpower, LLC.

Description: Notice of Self-Certification of Exempt Wholesale Generator Status of Maryneal Windpower, LLC.

Filed Date: 6/29/20.

Accession Number: 20200629-5450.

Comments Due: 5 p.m. ET 7/20/20.

Docket Numbers: EG20-201-000.

Applicants: HO Clarke Generating, LLC.

Description: Notice of Self-Certification of Exempt Wholesale Generator Status of HO Clarke Generating, LLC.

Filed Date: 6/30/20.

Accession Number: 20200630-5272.

Comments Due: 5 p.m. ET 7/21/20.

Take notice that the Commission received the following electric rate filings:

Docket Numbers: ER10-1556-009.

Applicants: Longview Power, LLC.

Description: Updated Market Power Analysis for the Northeast Region of Longview Power, LLC.

Filed Date: 6/29/20.

Accession Number: 20200629-5515.

Comments Due: 5 p.m. ET 8/28/20.

Docket Numbers: ER10-1630-008; ER10-1586-008.

Applicants: Big Sandy Peaker Plant, LLC, Wolf Hills Energy, LLC.

Description: Triennial Market Power Update—Northeast Region of the Avenue MBR Sellers.

Filed Date: 6/29/20.

Accession Number: 20200629-5532.

Comments Due: 5 p.m. ET 8/28/20.

Docket Numbers: ER10-2131-023.

Applicants: Grand Ridge Energy LLC.

Description: Triennial Report Grand Ridge Energy LLC.

Filed Date: 6/30/20.

Accession Number: 20200630-5406.

Comments Due: 5 p.m. ET 8/29/20.

Docket Numbers: ER10-2137-023; ER14-2799-015.

Applicants: Beech Ridge Energy LLC, Beech Ridge Energy Storage LLC.

Description: Triennial Report of Beech Ridge Energy LLC, et. al.

Filed Date: 6/30/20.

Accession Number: 20200630-5394.

Comments Due: 5 p.m. ET 8/29/20.

Docket Numbers: ER10-2140-023.

Applicants: Grand Ridge Energy IV LLC.

Description: Triennial Report Grand Ridge Energy IV LLC.

Filed Date: 6/30/20.

Accession Number: 20200630-5402.

Comments Due: 5 p.m. ET 8/29/20.

Docket Numbers: ER10-2141-023; ER14-2187-017.

Applicants: Grand Ridge Energy V LLC, Grand Ridge Energy Storage LLC.

Description: Triennial Report of Grand Ridge Energy V LLC, et al.

Filed Date: 6/30/20.

Accession Number: 20200630-5404.

Comments Due: 5 p.m. ET 8/29/20.

Docket Numbers: ER10-2265-017; ER10-1581-023; ER10-2355-010; ER10-2783-015; ER10-2784-015; ER10-2798-015; ER10-2799-015; ER10-2801-015; ER10-2878-015; ER10-2879-015; ER10-2947-015; ER10-2969-015; ER10-3223-009; ER11-2062-025; ER11-2175-003; ER11-2176-002; ER11-3188-003; ER11-3418-005; ER11-4307-026; ER11-4308-026; ER12-224-004; ER12-225-004; ER12-2301-003; ER12-261-025; ER16-10-003; ER17-764-003; ER17-765-003; ER17-767-003.

Applicants: NRG Power Marketing LLC, Arthur Kill Power LLC, Astoria Gas Turbine Power LLC, Connecticut Jet Power LLC, Devon Power LLC, Dunkirk Power LLC, Energy Plus Holdings LLC, Green Mountain Energy Company, Independence Energy Group LLC, Indian River Power LLC, Long Beach Peakers LLC, Middletown Power LLC, Midwest Generation, LLC, Montville Power LLC, NRG Chalk Point CT LLC, Oswego Harbor Power LLC, Reliant Energy Northeast LLC, SGE Energy Sourcing, LLC, Stream Energy Columbia, LLC, Stream Energy Delaware, LLC, Stream Energy Illinois, LLC, Stream Energy Maryland, LLC, Stream Energy New Jersey, LLC, Stream Energy New York, LLC, Stream Energy Pennsylvania, LLC, Stream Ohio Gas & Electric, LLC, Vienna Power LLC, XOOM Energy, LLC.

Description: Updated Market Power Analysis of the NRG Northeast MBR Sellers.

Filed Date: 6/29/20.

Accession Number: 20200629-5491.

Comments Due: 5 p.m. ET 8/28/20.

Docket Numbers: ER10-2566-011; ER10-1333-015; ER13-2322-007; ER13-2387-008; ER15-190-014; ER18-1343-007; ER19-1819-002; ER19-1820-002; ER19-1821-002.

Applicants: Duke Energy Carolinas, LLC, Duke Energy Commercial Enterprises, Inc., Duke Energy Florida, LLC, Duke Energy Progress, LLC, Duke Energy Renewable Services, LLC, Broad River Solar, LLC, Stony Knoll Solar, LLC, Speedway Solar NC, LLC, Carolina Solar Power, LLC.

Description: Triennial Updated Market Power Analysis for the Southeast Region of Duke Southeast MBR Sellers.

Filed Date: 6/29/20.

Accession Number: 20200629-5547.

Comments Due: 5 p.m. ET 8/28/20.

Docket Numbers: ER10-2614-006.

Applicants: ENMAX Energy Marketing, Inc.

Description: Triennial Market Power Analysis of ENMAX Energy Marketing, Inc.

Filed Date: 6/29/20.

Accession Number: 20200629-5518.

Comments Due: 5 p.m. ET 8/28/20.

Docket Numbers: ER10-2834-007; ER10-2821-007; ER12-1329-007; ER17-1438-002; ER17-2056-001; ER20-173-001.

Applicants: Munnsville Wind Farm, LLC, Radford's Run Wind Farm, LLC, RWE Renewables Energy Marketing, LLC, EC&R O&M, LLC, Stony Creek Wind Farm, LLC, Wildcat Wind Farm I, LLC.

Description: Updated Market Power Filing for the Northeast Region of Munnsville Wind Farm, LLC, et al.

Filed Date: 6/29/20.

Accession Number: 20200629-5484.

Comments Due: 5 p.m. ET 8/28/20.

Docket Numbers: ER10-3079-017; ER10-3078-005; ER19-2564-001.

Applicants: Tyr Energy, LLC, Commonwealth Chesapeake Company, LLC, Hickory Run Energy, LLC.

Description: Updated Market Power Analysis for the Northeast Region of Tyr Energy, LLC.

Filed Date: 6/29/20.

Accession Number: 20200629-5510.

Comments Due: 5 p.m. ET 8/28/20.

Docket Numbers: ER11-1850-008; ER11-1846-008; ER11-1847-008; ER11-2598-011; ER13-1192-005.

Applicants: Direct Energy Business, LLC, Direct Energy Business Marketing, LLC, Direct Energy Marketing Inc., Direct Energy Services, LLC, Gateway Energy Services Corporation.

Description: Northeast Region Triennial Report of the Direct Energy Sellers.

Filed Date: 6/29/20.

Accession Number: 20200629-5520.

Comments Due: 5 p.m. ET 8/28/20.

Docket Numbers: ER12-1383-003; ER14-2798-016; ER15-2453-005 ER17-252-004; ER18-494-005.

Applicants: Passadumkeag Windpark, LLC, Diamond State Generation Partners, LLC, 2016 ESA Project Company, LLC, Beech Ridge Energy II Holdings LLC, Beech Ridge Energy II LLC.

Description: Triennial Market Power Update for the Northeast Region of the Southern NE MBR Sellers.

Filed Date: 6/30/20.

Accession Number: 20200630-5390.

Comments Due: 5 p.m. ET 8/29/20.

Docket Numbers: ER12-1436-015; ER18-280-005; ER18-533-002; ER18-534-002; ER18-535-002; ER18-536-002; ER18-537-002; ER18-538-003; ER20-1641-001.

Applicants: Eagle Point Power Generation LLC, Lee County Generating Station, LLC, Monument Generating Station, LLC, O.H. Hutchings CT, LLC, Sidney, LLC, Southern Illinois Generation Company, LLC, Tait Electric Generating Station, LLC, Yankee Street, LLC, Montpelier Generating Station, LLC.

Description: Triennial Market-Based Rate Update Filing for the Northeast Region of the Rockland Sellers.

Filed Date: 6/29/20.

Accession Number: 20200629-5522.

Comments Due: 5 p.m. ET 8/28/20.

Docket Numbers: ER16-1720-012.

Applicants: Invenergy Energy Management LLC.

Description: Triennial Report of Invenergy Energy Management LLC.

Filed Date: 6/30/20.

Accession Number: 20200630-5411.

Comments Due: 5 p.m. ET 8/29/20.

Docket Numbers: ER17-1609-003; ER19-1215-002.

Applicants: Carroll County Energy LLC, Cricket Valley Energy Center, LLC.

Description: Updated Market Power Analysis of the Indicated MBR Sellers.

Filed Date: 6/29/20.

Accession Number: 20200629-5514.

Comments Due: 5 p.m. ET 8/28/20.

Docket Numbers: ER18-491-004; ER18-492-004.

Applicants: Hardin Wind Energy LLC, Hardin Wind Energy Holdings LLC.

Description: Triennial Report of Hardin Wind Energy LLC, et al.

Filed Date: 6/30/20.

Accession Number: 20200630-5409.

Comments Due: 5 p.m. ET 8/29/20.

Docket Numbers: ER18-1106-002.

Applicants: Kestrel Acquisition, LLC.

Description: Updated Market Power Analysis for Northeast Region of Kestrel Acquisition, LLC.

Filed Date: 6/29/20.

Accession Number: 20200629-5519.

Comments Due: 5 p.m. ET 8/28/20.

Docket Numbers: ER19-2269-002; ER10-1852-039; ER10-1951-021; ER10-2641-036; ER11-4462-042; ER16-1277-009; ER16-1293-008; ER16-1354-008; ER16-1913-006; ER17-838-017; ER18-1952-008; ER19-2226-002; ER19-2269-002; ER19-774-005.

Applicants: Dougherty County Solar, LLC, Florida Power & Light Company, Gulf Power Company, Live Oak Solar, LLC, NextEra Energy Marketing, LLC, NextEra Energy Services Massachusetts, LLC, NEPM II, LLC, Oleander Power Project, Limited Partnership, Quitman Solar, LLC, River Bend Solar, LLC, Stanton Clean Energy, LLC, White Oak Solar, LLC, White Pine Solar, LLC.

Description: Southeast Region Triennial Market Power Update, et al. of the NextEra Companies.

Filed Date: 6/29/20.

Accession Number: 20200629-5545.

Comments Due: 5 p.m. ET 8/28/20.

Docket Numbers: ER19-2507-002; ER12-1260-015; ER13-1793-014.

Applicants: Convergent Energy and Power LP, Hazle Spindle, LLC, Stephentown Spindle, LLC.

Description: Updated Market Power Analysis: Northeast Region of the Convergent MBR Sellers.

Filed Date: 6/29/20.

Accession Number: 20200629-5544.

Comments Due: 5 p.m. ET 8/28/20.

Docket Numbers: ER20-838-003.

Applicants: Duke Energy Ohio, Inc.

Description: Tariff Amendment: DEO-AEP Amendment to Amend IA PJM SA No. 1491 Request for Extension to be effective 12/21/2019.

Filed Date: 6/30/20.

Accession Number: 20200630-5106.

Comments Due: 5 p.m. ET 7/21/20.

Docket Numbers: ER20-1385-001; ER10-2638-010; ER10-3194-007; ER10-3195-007; ER11-4535-002; ER16-2271-003; ER16-2549-002; ER16-581-004; ER16-582-004; ER16-806-003; ER17-1370-003; ER19-997-001.

Applicants: Bluestone Farm Solar, LLC, ENGIE Energy Marketing NA, Inc., ENGIE Portfolio Management, LLC, ENGIE Resources LLC, ENGIE Retail, LLC, MATEP LLC, MATEP Limited Partnership, Nassau Energy LLC, Pinetree Power LLC, Pinetree Power-Tamworth, LLC, Waterbury Generation LLC, Plymouth Rock Energy, LLC.

Description: Triennial Compliance Filing of the ENGIE Northeast MBR Sellers.

Filed Date: 6/29/20.

Accession Number: 20200629-5549.

Comments Due: 5 p.m. ET 8/28/20.

Docket Numbers: ER20-1436-002; ER20-1437-002; ER20-1438-002; ER20-879-002.

Applicants: Energy Harbor LLC, Energy Harbor Generation LLC, Energy Harbor Nuclear Generation LLC, Pleasants LLC.

Description: Triennial Market Power Update Analysis of the Energy Harbor Public Utilities.

Filed Date: 6/29/20.

Accession Number: 20200629-5500.

Comments Due: 5 p.m. ET 8/28/20.

Docket Numbers: ER20-1436-003; ER20-1437-003; ER20-1438-003; ER20-879-003.

Applicants: Energy Harbor LLC, Energy Harbor Generation LLC, Energy Harbor Nuclear Generation LLC, Pleasants LLC.

Description: Notification of Change in Status of the Energy Harbor Public Utilities.

Filed Date: 6/29/20.

Accession Number: 20200629-5502.

Comments Due: 5 p.m. ET 7/20/20.

Docket Numbers: ER20-2240-000.

Applicants: NorthWestern Corporation.

Description: § 205(d) Rate Filing: SA 893—Firm PTP Transmission Service Agreement with Energy Keepers Inc. to be effective 9/1/2020.

Filed Date: 6/30/20.

Accession Number: 20200630-5000.

Comments Due: 5 p.m. ET 7/21/20.

Docket Numbers: ER20-2241-000.

Applicants: Indiana Michigan Power Company, AEP Indiana Michigan Transmission Company, Inc., American Electric Power Service Corporation, PJM Interconnection, L.L.C.

Description: § 205(d) Rate Filing: AEP submits ILDSAs, SA No. 1452, 1453, 1544 and 1456, and BAA SA No. 5677 to be effective 6/1/2020.

Filed Date: 6/30/20.

Accession Number: 20200630-5002.

Comments Due: 5 p.m. ET 7/21/20.

Docket Numbers: ER20-2242-000.

Applicants: Southwest Power Pool, Inc.

Description: § 205(d) Rate Filing: 1790R1 Occidental Chemical Corporation LGIA to be effective 8/29/2020.

Filed Date: 6/30/20.

Accession Number: 20200630-5050.

Comments Due: 5 p.m. ET 7/21/20.

Docket Numbers: ER20-2243-000.

Applicants: Southwest Power Pool, Inc.

Description: § 205(d) Rate Filing: 3631 Milligan 1 Wind LLC Sponsored Upgrade Agr to be effective 6/26/2020.

Filed Date: 6/30/20.

Accession Number: 20200630-5052.

Comments Due: 5 p.m. ET 7/21/20.

Docket Numbers: ER20-2244-000.

Applicants: SWG Colorado, LLC.

Description: Tariff Cancellation: Cancellation of MBR Tariff to be effective 7/1/2020.

Filed Date: 6/30/20.

Accession Number: 20200630-5057.

Comments Due: 5 p.m. ET 7/21/20.

Docket Numbers: ER20-2245-000.

Applicants: CPV Fairview, LLC.

Description: § 205(d) Rate Filing: Revised Market-Based Rate Tariff Filing to be effective 8/30/2020.

Filed Date: 6/30/20.

Accession Number: 20200630-5060.

Comments Due: 5 p.m. ET 7/21/20.

Docket Numbers: ER20-2246-000.

Applicants: Longview Power, LLC.

Description: § 205(d) Rate Filing: Market-Based Rate Tariff Revisions to be effective 7/1/2020.

Filed Date: 6/30/20.

Accession Number: 20200630-5062.

Comments Due: 5 p.m. ET 7/21/20.

Docket Numbers: ER20-2247-000.

Applicants: Southwest Power Pool, Inc.

Description: § 205(d) Rate Filing: 2632R2 Sunflower/Evergy KS Central/Evergy KS South Inter Agr to be effective 8/29/2020.

Filed Date: 6/30/20.

Accession Number: 20200630-5064.

Comments Due: 5 p.m. ET 7/21/20.

Docket Numbers: ER20-2248-000.

Applicants: SWG Colorado, LLC.

Description: Tariff Cancellation: Cancellation of Rate Schedules Tariff to be effective 7/1/2020.

Filed Date: 6/30/20.

Accession Number: 20200630-5076.

Comments Due: 5 p.m. ET 7/21/20.

Docket Numbers: ER20-2249-000.

Applicants: Priogen Power LLC.

Description: Baseline eTariff Filing: Baseline new to be effective 8/31/2020.

Filed Date: 6/30/20.

Accession Number: 20200630-5078.

Comments Due: 5 p.m. ET 7/21/20.

Docket Numbers: ER20-2250-000.

Applicants: Spruance Operating Services, LLC.

Description: § 205(d) Rate Filing: Request for Category 1 Seller Status in the NE Region and Revised MBR Tariff to be effective 7/1/2020.

Filed Date: 6/30/20.

Accession Number: 20200630-5082.

Comments Due: 5 p.m. ET 7/21/20.

Docket Numbers: ER20-2251-000.

Applicants: Southwest Power Pool, Inc.

Description: § 205(d) Rate Filing: Revisions to Extend Tariff Administration between SPP and SPA through 12/31/2021 to be effective 7/1/2020.

Filed Date: 6/30/20.

Accession Number: 20200630-5089.

Comments Due: 5 p.m. ET 7/21/20.

Docket Numbers: ER20-2252-000.

Applicants: Southwest Power Pool, Inc.

Description: § 205(d) Rate Filing: 3330R2 City of Nixa, Missouri to be effective 6/1/2020.

Filed Date: 6/30/20.

Accession Number: 20200630-5091.

Comments Due: 5 p.m. ET 7/21/20.

Docket Numbers: ER20-2253-000.

Applicants: New York State Electric & Gas Corporation.

Description: § 205(d) Rate Filing: Rate Schedule FERC No. 87 Supplement to be effective 9/1/2020.

Filed Date: 6/30/20.

Accession Number: 20200630-5116.

Comments Due: 5 p.m. ET 7/21/20.

Docket Numbers: ER20-2254-000.

Applicants: New York State Electric & Gas Corporation.

Description: § 205(d) Rate Filing: NYSEG-NYPA Attachment C—O&M Annual Update to be effective 9/1/2020.

Filed Date: 6/30/20.

Accession Number: 20200630-5121.

Comments Due: 5 p.m. ET 7/21/20.

Docket Numbers: ER20-2255-000.

Applicants: Midcontinent Independent System Operator, Inc.

Description: § 205(d) Rate Filing: 2020-06-30_SA 3509 Certificate of Concurrence MidAmerican-Evergy IA to be effective 8/28/2020.

Filed Date: 6/30/20.

Accession Number: 20200630-5122.

Comments Due: 5 p.m. ET 7/21/20.

Docket Numbers: ER20-2256-000.

Applicants: Copenhagen Wind Farm, LLC.

Description: Market-Based Triennial Review Filing: Triennial Market Power Update of Copenhagen Wind Farm to be effective 8/30/2020.

Filed Date: 6/30/20.

Accession Number: 20200630-5134.

Comments Due: 5 p.m. ET 8/29/20.

Docket Numbers: ER20-2257-000.

Applicants: Vermont Transco LLC.

Description: Compliance filing: Compliance 2020 Exibit A to be effective 7/1/2020.

Filed Date: 6/30/20.

Accession Number: 20200630-5141.

Comments Due: 5 p.m. ET 7/21/20.

Docket Numbers: ER20-2258-000.

Applicants: Northern Indiana Public Service Company.

Description: § 205(d) Rate Filing: Filing of an Amended CIAC Agreement to be effective 7/1/2020.

Filed Date: 6/30/20.

Accession Number: 20200630-5160.

Comments Due: 5 p.m. ET 7/21/20.

Docket Numbers: ER20-2259-000.

Applicants: New York Transco, LLC, New York Independent System Operator, Inc.

Description: Compliance filing: NY Transco compliance re: Order No. 864 ? Accumulated Deferred Income Tax to be effective 1/26/2020.

Filed Date: 6/30/20.

Accession Number: 20200630-5173.

Comments Due: 5 p.m. ET 7/21/20.

Docket Numbers: ER20-2260-000.

Applicants: All Dams Generation, LLC.

Description: § 205(d) Rate Filing: Request for Cat. 1 Seller Status for the NE Region and Revised MBR Tariff to be effective 7/1/2020.

Filed Date: 6/30/20.

Accession Number: 20200630-5175.

Comments Due: 5 p.m. ET 7/21/20.

Docket Numbers: ER20-2261-000.

Applicants: Black River Hydroelectric, LLC.

Description: Compliance filing: Request for Cat. 1 Seller Status for the NE Region and Revised MBR Tariff to be effective 7/1/2020.

Filed Date: 6/30/20.

Accession Number: 20200630-5177.

Comments Due: 5 p.m. ET 7/21/20.

Docket Numbers: ER20-2262-000.

Applicants: Lake Lynn Generation, LLC.

Description: § 205(d) Rate Filing: Request for Category 1 Seller Status for the NE Region and Revised MBR Tariff to be effective 7/1/2020.

Filed Date: 6/30/20.

Accession Number: 20200630-5178.

Comments Due: 5 p.m. ET 7/21/20.

Docket Numbers: ER20-2263-000.

Applicants: PE Hydro Generation, LLC.

Description: § 205(d) Rate Filing: Request for Category 1 Seller Status for the NE Region and Revised MBR Tariff to be effective 7/1/2020.

Filed Date: 6/30/20.

Accession Number: 20200630-5194.

Comments Due: 5 p.m. ET 7/21/20.

Docket Numbers: ER20-2264-000.

Applicants: York Haven Power Company, LLC.

Description: § 205(d) Rate Filing: Request for Category 1 Seller Status for the NE Region and Revised MBR Tariff to be effective 7/1/2020.

Filed Date: 6/30/20.

Accession Number: 20200630-5211.

Comments Due: 5 p.m. ET 7/21/20.

Docket Numbers: ER20-2265-000.

Applicants: Pacific Gas and Electric Company.

Description: § 205(d) Rate Filing: TO Tariff Revision to Formula Capital Structure to be effective 8/31/2020.

Filed Date: 6/30/20.

Accession Number: 20200630-5286.

Comments Due: 5 p.m. ET 7/21/20.

Docket Numbers: ER20-2266-000.

Applicants: Southwest Power Pool, Inc.

Description: § 205(d) Rate Filing: 607R38 Evergy Kansas Central, Inc. NITSA NOA to be effective 6/1/2020.

Filed Date: 6/30/20.

Accession Number: 20200630-5299.

Comments Due: 5 p.m. ET 7/21/20.

Docket Numbers: ER20-2267-000.

Applicants: Duke Energy Carolinas, LLC.

Description: § 205(d) Rate Filing: DEC-NCMPA1 (SA-212) Revised to be effective 6/1/2020.

Filed Date: 6/30/20.

Accession Number: 20200630-5320.

Comments Due: 5 p.m. ET 7/21/20.

Docket Numbers: ER20-2268-000.

Applicants: Alabama Power Company.

Description: § 205(d) Rate Filing: Cooperative Energy NITSA Amendment Filing (Remove Oak Grove DP) to be effective 6/1/2020.

Filed Date: 6/30/20.

Accession Number: 20200630-5322.

Comments Due: 5 p.m. ET 7/21/20.

Docket Numbers: ER20-2269-000.

Applicants: Alliance Development Group, LLC.

Description: Petition for Limited Waiver of Alliance Development Group, LLC.

Filed Date: 6/29/20.

Accession Number: 20200629-5543.

Comments Due: 5 p.m. ET 7/20/20

Docket Numbers: ER20-2270-000.

Applicants: Black Hills Power, Inc.

Description: § 205(d) Rate Filing: Second Amended GDEMA with Black Hills Wyoming to be effective 8/1/2020.

Filed Date: 6/30/20.

Accession Number: 20200630-5353.

Comments Due: 5 p.m. ET 7/21/20.

Docket Numbers: ER20-2271-000.

Applicants: Caithness Long Island, LLC.

Description: Market-Based Triennial Review Filing: Updated Market Power Analysis for the Northeast Region and Revised MBR Tariff to be effective 7/1/2020.

Filed Date: 6/30/20.

Accession Number: 20200630-5354.

Comments Due: 5 p.m. ET 8/29/20.

Docket Numbers: ER20-2272-000.

Applicants: Black Hills Power, Inc.

Description: § 205(d) Rate Filing: Second Amended GDEMA with Gillette, WY to be effective 8/1/2020.

Filed Date: 6/30/20.

Accession Number: 20200630-5360.

Comments Due: 5 p.m. ET 7/21/20.

Docket Numbers: ER20-2273-000.

Applicants: Southwest Power Pool, Inc.

Description: § 205(d) Rate Filing: 3705 Public Service Co of OK & Evergy Kansas South Inter Agr to be effective 8/29/2020.

Filed Date: 6/30/20.

Accession Number: 20200630-5364.

Comments Due: 5 p.m. ET 7/21/20.

Docket Numbers: ER20-2274-000.

Applicants: Black Hills Power, Inc.

Description: § 205(d) Rate Filing: Third Amended GDEMA with Cheyenne Light, Fuel and Power Company to be effective 8/1/2020.

Filed Date: 6/30/20.

Accession Number: 20200630-5366.

Comments Due: 5 p.m. ET 7/21/20.

Docket Numbers: ER20-2275-000.

Applicants: Black Hills Power, Inc.

Description: § 205(d) Rate Filing: Second Amended GDEMA with Black Hills Colorado to be effective 8/1/2020.

Filed Date: 6/30/20.

Accession Number: 20200630-5369.

Comments Due: 5 p.m. ET 7/21/20.

Docket Numbers: ER20-2276-000.

Applicants: Moxie Freedom LLC.

Description: Market-Based Triennial Review Filing: Updated Market Power Analysis for the Northeast Region and Revised MBR Tariff to be effective 7/1/2020.

Filed Date: 6/30/20.

Accession Number: 20200630-5371.

Comments Due: 5 p.m. ET 8/29/20.

Docket Numbers: ER20-2277-000.

Applicants: New England Power Pool Participants Committee.

Description: § 205(d) Rate Filing: July 2020 Membership Filing to be effective 7/1/2020.

Filed Date: 6/30/20.

Accession Number: 20200630-5373.

Comments Due: 5 p.m. ET 7/21/20.

Docket Numbers: ER20-2278-000.

Applicants: Southwest Power Pool, Inc.

Description: § 205(d) Rate Filing: 3024R1 Evergy Missouri West & Transource Missouri Inter Agr to be effective 8/29/2020.

Filed Date: 6/30/20.

Accession Number: 20200630-5382.

Comments Due: 5 p.m. ET 7/21/20.

Docket Numbers: ER20-2279-000.

Applicants: Black Hills Power, Inc.

Description: § 205(d) Rate Filing: Second Amended GDEMA with Montana-Dakota Utilities Co. to be effective 8/1/2020.

Filed Date: 6/30/20.

Accession Number: 20200630-5391.

Comments Due: 5 p.m. ET 7/21/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 30, 2020.
Nathaniel J. Davis, Sr.,
Deputy Secretary.

[FR Doc. 2020-14552 Filed 7-6-20; 8:45 am]

BILLING CODE 6717-01-P